DEPARTMENT OF THE INTERIOR

Fish and Wildlife Service

[FWS-R9-ES-2008-N0308] [92210-1111-0000-B3]

Proposed Information Collection; OMB Control Number 1018-0119; Policy for Evaluation of Conservation Efforts When Making Listing Decisions (PECE)

AGENCY: Fish and Wildlife Service, Interior.

ACTION: Notice; request for comments.

SUMMARY: We (Fish and Wildlife Service) will ask the Office of Management and Budget (OMB) to approve the information collection (IC) described below. As required by the Paperwork Reduction Act of 1995 and as part of our continuing efforts to reduce paperwork and respondent burden, we invite the general public and other Federal agencies to take this opportunity to comment on this IC. This IC is scheduled to expire on January 31, 2009. We may not conduct or sponsor and a person is not required to respond to a collection of information unless it displays a currently valid OMB control number.

DATES: Your comments must be received on or before January 23, 2009.

ADDRESSES: Send your comments on the IC to Hope Grey, Information Collection Clearance Officer, Fish and Wildlife Service, MS 222-ARLSQ, 4401 North Fairfax Drive, Arlington, VA 22203 (mail), or hope_grey@fws.gov (e-mail).

FOR FURTHER INFORMATION CONTACT: To request additional information about this ICR, contact Hope Grey by mail or e-mail (see ADDRESSES) or by telephone at (703) 358-2482.

SUPPLEMENTARY INFORMATION:

I. Abstract

Section 4 of the Endangered Species Act (ESA) specifies the process by which we can list species as threatened or endangered. When we consider whether or not to list a species, the ESA requires us to take into account the efforts being made by any State or any political subdivision of a State to protect such species. We also take into account the efforts being made by other entities. States or other entities often formalize conservation efforts in conservation agreements, conservation plans, management plans, or similar documents. The conservation efforts recommended or called for in such documents could prevent some species from becoming so imperiled that they meet the definition of a threatened or endangered species under the ESA.

The Policy for Evaluation of Conservation Efforts When Making Listing Decisions (PECE) encourages the development of conservation agreements/plans and provides certainty about the standard that an individual conservation effort must meet for us to consider whether it contributes to forming a basis for making a decision about the listing of a species. PECE applies to “formalized conservation efforts” that have not been implemented or have been implemented but have not yet demonstrated if they are effective at the time of a listing decision.

Under PECE, formalized conservation efforts are defined as conservation efforts (specific actions, activities, or programs designed to eliminate or reduce threats or otherwise improve the status of a species) identified in a conservation agreement, conservation plan, management plan, or similar document (68 FR 15100). The development of such agreements/plans is voluntary. There is no requirement that the individual conservation efforts included in such documents be designed to meet the standard in PECE.

PECE specifies that to consider if a formalized conservation effort(s) contributes to forming a basis for making a listing decision, we must find that the effort is sufficiently certain to be implemented and effective so as to have contributed to the elimination or adequate reduction of one or more threats to the species identified through our analysis of listing factors specified in section 4(a)(1) of the ESA. To gauge whether or not this standard has been met, PECE includes criteria for evaluating the certainty of implementation and the certainty of effectiveness of individual conservation efforts.

One criterion is whether provisions for monitoring and reporting progress on implementation and effectiveness of the effort are included in the plan or agreement. Also, if we use a conservation effort(s) that satisfies the PECE standard as part of the basis for a decision not to list a species or to list the species as threatened rather than endangered, we must:

(1) Track the status of the effort(s), including the progress of its implementation and effectiveness and

(2) If necessary, reevaluate the status of the species and consider whether or not initiating the listing process is necessary.

The nature and frequency of the monitoring and reporting will vary according to the species addressed, land ownership, specific conservation efforts, expertise of participants, and other factors. Generally, monitoring and reporting occurs annually for several years as the conservation efforts are implemented and their effectiveness is evaluated. The information collected through monitoring is invaluable to the Service, the States, and other entities involved in agreements and plans, and to others concerned about the welfare of the species covered by the agreements/plans.

Agreements/plans developed with the intent of influencing a listing decision and with involvement of the Service constitute an information collection that requires OMB approval under the Paperwork Reduction Act. Estimating the hours associated with developing a conservation agreement or plan is difficult because:

(1) Development and associated monitoring of conservation efforts are completely voluntary, and we cannot predict who will decide to develop these efforts, how many entities they might involve, or the type and extent of the planning, monitoring, and reporting processes they might use.

(2) We cannot predict which species are certain to become the subjects of conservation efforts, and, therefore, we cannot predict the number, nature, and extent of conservation efforts and monitoring that might be included in conservation agreements/plans designed with the intent of influencing a decision regarding listing a species.

(3) Many agreements/plans are developed to satisfy requirements of other laws or for other purposes. We cannot predict whether or the extent to which some of these plans may be expanded to attempt to make listing unnecessary.

II. Data

OMB Control Number: 1018-0119.

Title: Policy for Evaluation of Conservation Efforts When Making Listing Decisions (PECE).

Service Form Number(s): None.

Type of Request: Extension of currently approved collection.

Affected Public: Individuals; States, tribes, local governments; and not-for-profit institutions.

Respondent's Obligation: Required to obtain or retain a benefit.

Frequency of Collection: On occasion.

Activity | Number of annual respondents | Number of annual responses | Completion time per response | Annual burden hours
Original Agreement | 4 | 4 | 2,000 hours | 8,000
Monitoring | 7 | 7 | 600 hours | 4,200
Reporting | 7 | 7 | 120 hours | 840
Totals | 18 | 18 |  | 13,040

III. Request for Comments

We invite comments concerning this IC on:

(1) Whether or not the collection of information is necessary, including whether or not the information will have practical utility;

(2) The accuracy of our estimate of the burden for this collection of information;

(3) Ways to enhance the quality, utility, and clarity of the information to be collected; and

(4) Ways to minimize the burden of the collection of information on respondents.

Comments that you submit in response to this notice are a matter of public record. We will include and/or summarize each comment in our request to OMB to approve this IC. Before including your address, phone number, e-mail address, or other personal identifying information in your comment, you should be aware that your entire comment, including your personal identifying information, may be made publicly available at any time. While you can ask us in your comment to withhold your personal identifying information from public review, we cannot guarantee that we will be able to do so.

Dated: October 9, 2008.
Hope Grey,
Information Collection Clearance Officer, Fish and Wildlife Service.

FR Doc. E8-27831 Filed 11-21-08; 8:45 am

BILLING CODE 4310-55-S